COMMITTEE FOR PURCHASE FROM PEOPLE WHO ARE BLIND OR SEVERELY DISABLED

Procurement List; Proposed Additions and Deletions; Correction

AGENCY: Committee for Purchase From People Who Are Blind or Severely Disabled.

ACTION: Notice; correction.

SUMMARY: The Committee for Purchase From People Who Are Blind or Severely Disabled published a document in the Federal Register of May 26, 2017, concerning a notice of Additions and Deletions.

FOR FURTHER INFORMATION CONTACT: Amy B. Jensen, Telephone: (703) 603-2132.

Correction

In the Federal Register of May 26, 2017, in FR Doc. 2017-10901, (82 FR 24308-24309), the Committee would like to correct the notice for “Procurement List; Proposed Additions and Deletions” concerning a notice of intent to add Service Type: Administrative Service to the Procurement List. The notice contained the incorrect Mandatory Sources(s) of Supply: Lighthouse for the Blind of Houston, Houston, TX. Please correct to read Mandatory Sources(s) of Supply: Mississippi Industries for the Blind, Jackson, MS.

Dated: June 6, 2017.
Amy B. Jensen,
Director, Business Operations.

[FR Doc. 2017-12015 Filed 6-8-17; 8:45 am]

BILLING CODE 6353-01-P